OFFICE OF THE UNITED STATES TRADE REPRESENTATIVE

Allocation of Additional Fiscal Year (FY) 2010 In-Quota Volume for Raw Cane Sugar

AGENCY: Office of the United States Trade Representative.

ACTION: Notice.

SUMMARY: The Office of the United States Trade Representative (USTR) is providing notice of country-by-country allocations of additional fiscal year (FY) 2010 in-quota quantity of the tariff-rate quota (TRQ) for imported raw cane sugar.

DATES: Effective Date: May 11, 2010.

ADDRESSES: Inquiries may be mailed or delivered to Leslie O'Connor, Director of Agricultural Affairs, Office of Agricultural Affairs, Office of the United States Trade Representative, 600 17th Street, NW., Washington, DC 20508.

FOR FURTHER INFORMATION CONTACT: Leslie O'Connor, Office of Agricultural Affairs, 202-395-6127.

SUPPLEMENTARY INFORMATION: Pursuant to Additional U.S. Note 5 to chapter 17 of the Harmonized Tariff Schedule of the United States (HTS), the United States maintains TRQs for imports of raw cane and refined sugar.

Section 404(d)(3) of the Uruguay Round Agreements Act (19 U.S.C. 3601(d)(3)) authorizes the President to allocate the in-quota quantity of a TRQ for any agricultural product among supplying countries or customs areas. The President delegated this authority to the United States Trade Representative under Presidential Proclamation 6763 (60 FR 1007).

On April 23, 2010, the Secretary of Agriculture announced an additional in-quota quantity of the FY 2010 TRQ for imported raw cane sugar for the remainder of FY 2010 (ending September 30, 2010) in the amount of 181,437 metric tones * raw value (MTRV). This quantity is in addition to the minimum amount to which the United States is committed pursuant to the World Trade Organization (WTO) Uruguay Round Agreements (1,117,195 MTRV). Based on consultations with quota holders, USTR is allocating the 181,437 MTRV to the following countries in the amounts specified below:

* Conversion factor: 1 metric ton = 1.10231125 short tons.

Country | Additional FY 2010 allocation
Argentina | 7,826
Australia | 15,106
Belize | 2,002
Bolivia | 1,456
Brazil | 26,391
Colombia | 4,368
Congo | 7,258
Costa Rica | 2,730
Dominican Republic | 32,033
Ecuador | 2,002
El Salvador | 4,732
Guatemala | 8,736
Guyana | 2,184
Honduras | 1,820
India | 1,456
Jamaica | 2,002
Malawi | 1,820
Mauritius | 2,185
Mozambique | 2,366
Nicaragua | 3,822
Panama | 5,278
Peru | 7,462
Philippines | 24,571
South Africa | 4,186
Swaziland | 2,912
Thailand | 2,548
Zimbabwe | 2,185

These allocations are based on the countries' historical shipments to the United States. The allocations of the raw cane sugar TRQ to countries that are net importers of sugar are conditioned on receipt of the appropriate verifications of origin and certificates for quota eligibility must accompany imports from any country for which an allocation has been provided.

Ronald Kirk,
United States Trade Representative.

[FR Doc. 2010-11210 Filed 5-10-10; 8:45 am]

BILLING CODE 3190-W0-P